DEPARTMENT OF DEFENSE

Department of the Air Force

[Docket ID USAF-2008-0058]

Privacy Act of 1974; System of Records

AGENCY: Department of the Air Force, DoD.

ACTION: Notice to Add a System of Records.

SUMMARY: The Department of the Air Force proposes to add a system of records to its inventory of record systems subject to the Privacy Act of 1974 (5 U.S.C. 552a), as amended.

DATES: The proposed action will be effective on January 29, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7558.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on December 17, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,' dated February 8, 1996, (February 20, 1996, 61 FR 6427).

Dated: December 18, 2008.
Morgan E. Frazier,
Alternate OSD Federal Register Liaison Officer, Department of Defense.

F065 HAF B

System Name:

Job Order Cost Accounting System II Records.

System Location:

Headquarters Air Force Materiel Command/SP, Wright-Patterson Air Force Base, OH 45433-5320 and Air Force Materiel Command bases and installations that uses Job Order Cost Accounting System as a management tool within the Air Force. Official mailing addresses are published as an appendix to the Component's compilation of system of records notices.

Categories of individuals covered by the system:

Civilian employees and military members paid with Air Force funds (includes Air National Guard and Air Force Reserve members).

Categories of records in the system:

Individual's name, Social Security Number (SSN), employment dates, payroll amounts, pay period, and demographic data.

Authority for maintenance of the system:

United States Government Accountability Office (GAO) Policy and Procedures Manual, Title 2, Accounting (which includes documentation on Cost Accounting Standards; Department of Defense Instruction (DoDI) 3200.11, Major Range and Test Facility Base (MRTFB); DoD 7000.14, Financial Management Regulation, Volumes: 1, 4, 8; and E.O. 9397 (SSN).

Purpose:

A system that entails primarily financial analysis. It will be used to track Air Force Military and civilian payroll data costs at various Air Force management levels (unit, base, command). Information is compiled to calculate man-year costs and total payroll cost. Civilian personnel and military personal data are combined with payroll data and used to help identify employee demographics. The personal data also contains leave and compensatory time balances.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices apply to this system.

Policies and practices for storing, retrieving, accessing, retaining, and disposing of records in the system:

Storage:

Electronic storage media.

Retrievability:

By name and/or Social Security Number (SSN).

Safeguards:

Records are accessed for official use only by person(s) who are properly screened and cleared for need-to-know. Records are protected by standard Air Force access authentication procedures and by network system security software. The Air Force uses the approved public Key Infrastructure (PKI) certificates to force all authorized users to connect via a secure web.

Retention and Disposal:

Records are maintained for seven years by the creating organization, then destroyed by shredding or burning when the agency determines that the electronic records are superseded, obsolete, or no longer needed for administrative, legal, audit, or other operational purposes. After transfer to a Federal Records Center, stored for 2 years, then transferred to the National Archives for permanent retention.

System Manager(s) and Address:

Department of the Air Force, 554 ELSG/FND, 4225 Logistics Avenue, Bldg 262, Rm A035, Wright Patterson AFB, OH 45433-5761

Notification Procedure:

Individuals seeking to determine whether information about themselves is contained in this system of records should address written inquiries to the Department of Air Force, 554 ELSG/FND, 4225 Logistics Avenue, Wright Patterson AFB, OH 45433-5761.

Individual should provide their full name, aliases, date and place of birth, Social Security Number (SSN), service number(s), or other information verifiable.

An unsworn declaration under penalty of perjury in accordance with section 1746 of 28 U.S.C. or notarized signatures are acceptable as a means of proving the identity of the individual.

If an unsworn declaration is executed within the United States, its territories, possessions, or commonwealths, it shall read “I declare (or certify, verify, or state) under penalty of perjury that the foregoing is true and correct. Executed on (date). (Signature)”.

If an unsworn declaration is executed outside the United States, it shall read “I declare (or certify, verify, or state) under penalty of perjury under the laws of the United States of America that the foregoing is true and correct. Executed on (date). (Signature).”

Record Access Procedures:

Individuals seeking access to information about themselves contained in this system of records should address written inquiries to Department of Air Force 554 ELSG/END, 4225 Logistics Avenue, Wright Patterson AFB, OH 45433-5244.

Individual should provide their full name, aliases, date and place of birth, Social Security Number (SSN), service number(s), or other information verifiable.

An unsworn declaration under penalty of perjury in accordance with section 1746 of 28 U.S.C. or notarized signatures are acceptable as a means of proving the identity of the individual.

If an unsworn declaration is executed within the United States, its territories, possessions, or commonwealths, it shall read “I declare (or certify, verify, or state) under penalty of perjury that the foregoing is true and correct. Executed on (date). (Signature)”.

If an unsworn declaration is executed outside the United States, it shall read “I declare (or certify, verify, or state) under penalty of perjury under the laws of the United States of America that the foregoing is true and correct. Executed on (date). (Signature).”

Contesting Records Procedures:

The Air Force rules for accessing records, and for contesting contents and appealing initial agency determinations are published in Air Force Instruction 33-332; 32 CFR Part 806b; or from the system manager.

Record Source Categories:

Individuals.

Exemptions Claimed for the System:

None.

[FR Doc. E8-30869 Filed 12-29-08; 8:45 am]

BILLING CODE 5001-06-P